DEPARTMENT OF DEFENSE

Department of the Air Force

Housing Privatization Phase II, Hickam Air Force Base, HI and Bellows Air Force Station, HI

AGENCY: Department of the Air Force.

ACTION: Record of Decision (ROD).

SUMMARY: On February 13, 2007, the United States Air Force signed the ROD for the Housing Privatization Phase II, Hickam Air Force Base, Hawaii, and Bellows Air Force Station, Hawaii. The ROD states the Air Force decision to implement Alternative B (Privatization Excluding Fort Kamehameha) that will convey and privatize 1,297 of the remaining 1,330 Government-owned military housing units on Hickam AFB and six family housing units on Bellows AFS. Privatization would exclude the 25.75 acres of land and 33 historic housing units on Fort Kamehameha.

The decision was based on matters discussed in the Final Environmental Impact Statement (EIS), inputs from the public and regulatory agencies, and other relevant factors. The Final EIS was made available on December 22, 2006 in the Federal Register (Volume 71, Number 246, Page 77013) with a wait period ending January 22, 2007. The ROD documents only the decision of the Air Force with respect to the proposed Air Force actions analyzed in the Final EIS.

FOR FURTHER INFORMATION CONTACT: Ronnie Lanier, 15 CES/CEV, 75 H Street, Hickam AFB, Hawaii, (808) 449-1584 x238.

Bao-Anh Trinh,
Air Force Federal Register Liaison Officer.

[FR Doc. E7-3464 Filed 2-27-07; 8:45 am]

BILLING CODE 5001-05-P